FEDERAL ELECTION COMMISSION

[Notice 2009-2]

Agency Procedures

AGENCY: Federal Election Commission.

ACTION: Reopening of comment period.

SUMMARY: This notice reopens the comment period for a Notice of public hearing on the policies and procedures of the Federal Election Commission. The comment period will be open until February 18, 2009. The Notice of public hearing addresses Federal Election Commission policies and procedures including, but not limited to, policy statements, advisory opinions, and public information, as well as various elements of the compliance and enforcement processes such as audits, matters under review, report analysis, administrative fines, and alternative dispute resolution. The Commission also seeks comment from the public on the procedures contained in the Federal Election Campaign Act of 1971 (“FECA”), as well as the Commission's implementing regulations.

DATES: Comments must be received on or before February 18, 2009.

ADDRESSES: All comments must be in writing, must be addressed to Stephen Gura, Deputy Associate General Counsel, or Mark Shonkwiler, Assistant General Counsel, and must be submitted in either e-mail, facsimile, or paper copy form. Commenters are strongly encouraged to submit comments by e-mail to ensure timely receipt and consideration. E-mail comments must be sent to agencypro2008@fec.gov. If e-mail comments include an attachment, the attachment must be in the Adobe Acrobat (.pdf) or Microsoft Word (.doc) format. Faxed comments must be sent to (202) 219-3923, with paper copy follow-up. Paper comments and paper copy follow-up of faxed comments must be sent to the Federal Election Commission, 999 E Street, NW., Washington, DC 20463. All comments must include the full name and postal service address of the commenter or they will not be considered. The Commission will post comments on its website after the comment period ends.

FOR FURTHER INFORMATION CONTACT: Stephen Gura, Deputy Associate General Counsel, or Mark Shonkwiler, Assistant General Counsel, Office of General Counsel, 999 E Street, NW., Washington, DC 20463, (202) 694-1650 or (800) 424-9530.

SUPPLEMENTARY INFORMATION: The Commission is currently reviewing, and seeks further public comment on, its policies, practices and procedures. The Commission will use the comments received to determine whether its policies, practices or procedures should be adjusted, and whether rulemaking in this area is advisable. The Commission has made no decisions in this area, and may choose to take no action.

The Commission published a Notice of public hearing. See 73 FR 74494 (Dec. 8, 2008) (“Notice”). The Notice explored possible modifications to the Agency's policies, practices, and procedures in the areas of enforcement, alternative dispute resolution, administrative fines, reports analysis, audits, advisory opinions, and policy statements. The Notice also sought general comment on the procedures contained in the FECA, (2 U.S.C. 431 et seq.), as well as the Commission's implementing regulations. The comment period for the Notice ended on January 5, 2009, and a hearing was held on January 14-15, 2009. Written comments in response to the Notice and hearing documents can be found at http://www.fec.gov/law/policy/enforcement/publichearing011409.shtml. A transcript of the hearing will be posted on this Web site no later than January 30, 2009.

Given the complexity and importance of the issues raised by the Notice, the Commission has decided to reopen the comment period to seek additional information that may assist the Commission in its decisionmaking.

On behalf of the Commission.
Dated: January 15, 2009.
Steven T. Walther,
Chairman, Federal Election Commission.

[FR Doc. E9-1325 Filed 1-22-09; 8:45 am]

BILLING CODE 6715-01-P